DEPARTMENT OF THE TREASURY

Internal Revenue Service

Members of Senior Executive Service Performance Review Boards

AGENCY: Internal Revenue Service (IRS), Treasury.

ACTION: Notice.

SUMMARY: The purpose of this notice is to publish the names of those IRS employees who will serve as members on IRS' Fiscal Year 2011 Senior Executive Service (SES) Performance Review Boards.

DATES: This notice is effective September 1, 2011.

FOR FURTHER INFORMATION CONTACT: Sharnetta Walton, 1111 Constitution Avenue, NW., Room 2412, Washington, DC 20224, (202) 622-6246.

SUPPLEMENTARY INFORMATION: Pursuant to 5 U.S.C. 4314(c)(4), this notice announces the appointment of members to the Internal Revenue Service's SES Performance Review Boards. The names and titles of the executives serving on the boards follow:

Steven T. Miller, Deputy Commissioner for Services and Enforcement;

Elizabeth Tucker, Deputy Commissioner for Operations Support;

David P. Alito, Director, Compliance (W&I);

Peggy A. Bogadi, Deputy Commissioner for Operations (W&I);

Lauren Buschor, Deputy Associate CIO, Enterprise Operations (MITS);

Richard E. Byrd, Commissioner (W&I);

Robin L. Canady, Director, Strategy and Finance (W&I);

Rebecca Chiaramida, Director, Office of Privacy, Information Protection and Data Security;

Robert Choi, Director, Employee Plans (TE/GE);

Robert N. Crawford, Associate CIO, Enterprise Services (MITS);

Michael Danilack, Deputy Commissioner, International (LB&I);

Jonathan M. Davis, Chief of Staff, Office of the Commissioner;

Monica Davy, Executive Director, Office of Equity, Diversity and Inclusion;

Paul D. DeNard, Deputy Commissioner, Operations (LB&I);

Alain Dubois, Director, Research (SB/SE);

James P. Falcone, IRS Human Capital Officer;

Faris R. Fink, Commissioner (SB/SE);

Carl T. Froehlich, Associate CIO, End User and Equipment Services (MITS);

Julieta Garcia, Director, Stakeholder Partnerships, Education and Communications (W&I);

Silvana G. Garza, Associate CIO, Affordable Care Act Program Management Office (MITS) ;

David A. Grant, Chief, Agency-Wide Shared Services;

Joseph H. Grant, Deputy Commissioner, Tax Exempt and Government Entities (TE/GE);

Patricia J. Haynes, Director of Field Operations, Southeast (CI);

Shenita L. Hicks, Director, Examination (SB/SE);

Robert L. Hunt, Director, Collection (SB/SE);

John H. Imhoff, Jr., Director, Specialty Programs (SB/SE);

Robin DelRey Jenkins, Director, Office of Business Modernization (SB/SE);

Rebecca Mack Johnson, Director, Strategy and Finance (SB/SE);

Cecille M. Jones, Deputy Director, Electronic Tax Administration and Refundable Credits (W&I);

Keith Jones, Director, Natural Resources and Construction (LB&I);

Michael D. Julianelle, Director, Enterprise Collection Strategy (SB/SE);

Gregory E. Kane, Deputy Chief Financial Officer;

Frank M. Keith, Jr., Chief, Communications and Liaison;

Pamela J. LaRue, Chief Financial Officer;

Lois G. Lerner, Director, Exempt Organizations (TE/GE);

Heather C. Maloy, Commissioner (LB&I);

Stephen L. Manning, Associate CIO, Enterprise Networks (MITS);

Rosemary D. Marcuss, Director, Research, Analysis and Statistics;

C. Andre Martin, Director of Field Operations, Midstates (CI);

Gretchen R. McCoy, Associate CIO, Modernization Program Management Office (MITS);

James M. McGrane, Deputy CIO for Strategy/Modernization (MITS);

Moises C. Medina, Director, Government Entities (TE/GE);

Terence V. Milholland, Chief Technology Officer;

Katherine M. Miller, Associate CIO, Applications Development (MITS);

Debra L. Nelson, Director, Management Services (MITS);

Nina E. Olson, National Taxpayer Adovcate;

Orland M. Parker, Associate CIO, Strategy and Planning (MITS);

Jodell L. Patterson, Director, Office of Taxpayer Correspondence (W&I);

Ruth Perez, Deputy Commissioner (SB/SE);

Rick A. Raven, Deputy Chief (CI);

Julie Rushin, Deputy CIO for Operations (MITS);

Cheryl M. Sherwood, Director, Campus Compliance Services (SB/SE);

Melissa R. Snell, Deputy National Taxpayer Advocate;

Victor S. O. Song, Chief (CI);

David W. Stender, Associate CIO, Cybersecurity (MITS);

Peter J. Stipek, Director, Customer Accounts Services (W&I);

Keith V. Taylor, Director, Human Resources (SB/SE);

Peter C. Wade, Business Modernization Director (W&I);

Christopher Wagner, Chief, Appeals;

Robert C. Wilkerson, Director, Communications, Liaison and Disclosure (SB/SE).

This document does not meet the Department of the Treasury's criteria for significant regulations.

Dated: August 15, 2011.
Steven T. Miller,
Deputy Commissioner for Services and Enforcement, Internal Revenue Service.

[FR Doc. 2011-21411 Filed 8-22-11; 8:45 am]

BILLING CODE 4830-01-P